DEPARTMENT OF ENERGY

Agency Information Collection Extension

AGENCY: Department of Energy.

ACTION: Notice of request for comments.

SUMMARY: The Department of Energy (DOE), pursuant to the Paperwork Reduction Act of 1995, intends to extend for three years, an information collection request with the Office of Management and Budget (OMB).

DATES: Comments regarding this proposed information collection must be received on or before January 5, 2024. If you anticipate any difficulty in submitting comments within that period, contact the person listed in the FOR FURTHER INFORMATION CONTACT section as soon as possible.

ADDRESSES: Written comments may be sent to Aisha I. Miranda Rivera, aisha.miranda-rivera@hq.doe.gov, or at Department of Energy, Grid Deployment Office, 1000 Independence Avenue SW, Suite 4H-065, Washington, DC 20585, (240) 429-5213.

FOR FURTHER INFORMATION CONTACT: Aisha Miranda Rivera, aisha.miranda-rivera@hq.doe.gov, or at Department of Energy, Grid Deployment Office, 1000 Independence Avenue SW, Suite 4H-065, Washington, DC 20585, (240) 429-5213.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5200;

(2) Information Collection Request Titled: Puerto Rico Energy Resiliency Fund (PR-ERF), Household Intake Form.

(3) Type of Review: Extension of a currently approved emergency collection.

(4) Purpose: To authorize the use of the `Household Intake Form' to collect homeowner data necessary to qualify households as eligible to receive rooftop solar and battery storage installations as prescribed under the DOE Grid Deployment Office's (GDO) PR-ERF. Eligibility is limited to very low-income, single-family households that (1) reside in a Last Mile Community ¹ or (2) include an individual with an energy-dependent disability.

¹ https://clausa.app.carto.com/map/9d2a8e25-2f54-4f88-b95b-7151739bd3c7.

The PR-ERF, a $1 billion initiative authorized by Congress under the Consolidated Appropriations Act of 2023, Public Law 117-328, will incentivize the installation of rooftop solar and battery storage technologies for eligible households.

GDO plans to initiate installations of solar PV and battery storage systems before the 2024 hurricane season to address the harm and risk represented by the fragility of the islands' power system. Failure to collect the information necessary to verify eligibility in a timely manner will cause delays in providing assistance necessary to reestablish the reliability of electric service to these vulnerable residents. This narrow scope in purpose necessitates the need for a diligent verification process to demonstrate to Congress, Senior Leadership, and the public that this specific demographic has been served. GDO developed an in-person application process recognizing that the demographic served will lack access to broadband and have limited mobility but that it is essential to program operation to verify beneficiary eligibility for participation in the program.

(5) Annual Estimated Number of Respondents: 40,200.

(6) Annual Estimated Number of Total Responses: 80,000.

(7) Annual Estimated Number of Burden Hours: 56,800.

(8) Annual Estimated Reporting and Recordkeeping Cost Burden: $845,520.

Statutory Authority: The Consolidated Appropriations Act of 2023, Public Law 117-328,² directs the Department of Energy to improve the resilience of the Puerto Rican electric grid, including grants for low-and-moderate-income households and households that include individuals with disabilities for the purchase and installation of renewable energy, energy storage, and other grid technologies. This narrow scope in purpose necessitates the need for a diligent verification process to demonstrate to Congress, Senior Leadership, and the public that this specific demographic has been served.

² FY23 Summary of Appropriations Provisions.pdf (house.gov).

Signing Authority

This document of the Department of Energy was signed on October 20, 2023, by Maria D. Robinson, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 1, 2023.
Treena V. Garrett,
Federal Register Liaison Officer, U.S. Department of Energy.

[FR Doc. 2023-24457 Filed 11-3-23; 8:45 am]

BILLING CODE 6450-01-P